DEPARTMENT OF HOMELAND SECURITY

[Docket No. DHS-2006-0059]

Homeland Security Information Network Advisory Committee

AGENCY: Office of Operations Coordination, DHS.

ACTION: Committee Management; Notice of Committee Establishment.

SUMMARY: The Secretary of Homeland Security has determined that the establishment of the Homeland Security Information Network Advisory Committee is necessary and in the public interest in connection with the performance of duties of the DHS, Office of Operations and Coordination.

Name of Committee: Homeland Security Information Network Advisory Committee.

ADDRESSES: If you desire to submit comments on this action, they must be submitted by December 19, 2006. Comments must be identified by docket number and may be submitted by one of the following methods:

• Federal eRulemaking Portal: http://www.regulations.gov. Follow the instructions for submitting comments.

• E-mail: hsinac.comments@dhs.gov. Include the docket number in the subject line of the message.

• Instructions: All submissions received must include the words “Department of Homeland Security” and DHS-2006-0059, the docket number for this action. Comments received will be posted without alteration at http://www.regulations.gov including any personal information provided.

• Docket: For access to the docket to read background documents or comments received, go to http://www.regulations.gov.

FOR FURTHER INFORMATION CONTACT: For further information, please send queries to: Brendan P. Shields, U.S. Department of Homeland Security, Washington, DC 20528, 202-282-8877, hsinac.comments@dhs.gov.

SUPPLEMENTARY INFORMATION: For the reasons set forth below, the Secretary of Homeland Security has determined that the establishment of the Homeland Security Information Network Advisory Committee (HSINAC) is necessary and in the public interest. This determination follows consultation with the Committee Management Secretariat, General Services Administration.

The HSINAC is being established in accordance with the provisions of the Federal Advisory Committee Act (FACA) 5 U.S.C. App. 1, et seq.(Pub. L. 92-463). The HSINAC is being established to provide organizationally independent advice and recommendations to the leadership of the Department of Homeland Security, particularly the DHS Director, Office of Operations and Coordination (Director), on the requirements of end users within State, local, Federal and tribal governments and the Private Sector regarding the Homeland Security Information Network (HSIN).

Balanced Membership Plans: HSINAC membership shall include not more than 20 representatives from State, Tribal and Local governments and the Private Sector, who are outstanding within their specialty field, and who have the experience to ensure the Director and DHS leadership is informed of the needs and requirements of the information network users and communities of users.

Duration: The HSINAC shall function on a continuing basis for two years from the date of the charter filing unless the charter is earlier terminated by the Secretary.

Responsible DHS Officials: Brendan P. Shields, U.S. Department of Homeland Security, Washington, DC 20528, 202-282-8877, hsinac.comments@dhs.gov.

Roger Rufe, Jr.,
Director, Office of Operations Coordination, U.S. Department of Homeland Security.

[FR Doc. E6-17603 Filed 10-19-06; 8:45 am]

BILLING CODE 4410-10-P